DEPARTMENT OF THE INTERIOR

Minerals Management Service

Outer Continental Shelf, Western Planning Area, Oil and Gas Lease Sale 192 (2004)

AGENCY: Minerals Management Service.

ACTION: Preparation of an environmental assessment.

SUMMARY: The Minerals Management Service (MMS) is beginning preparation of an environmental assessment (EA) for proposed Lease Sale 192 (scheduled for August 2004) in the Western Planning Area (WPA) of the Gulf of Mexico (GOM). The preparation of this EA is the first step in the decision process for Lease Sale 192. The proposal and alternatives for Lease Sale 192 were identified by the Director of MMS in January 2002 following the Call for Information and Nominations/Notice of Intent to Prepare an Environmental Impact Statement (EIS) and were analyzed in the Gulf of Mexico OCS Oil and Gas Lease Sales: 2003-2007, Central Planning Area Sales 185, 190, 194, 198, and 201, and Western Planning Area Sales 187, 192, 196, and 200, Final Environmental Impact Statement, Volumes I and II (Final EIS, OCS EIS/EA MMS 2002-052). The WPA proposed action analyzed in the Final EIS was the offering of all available unleased acreage in the WPA. The analysis in the EA will reexamine the potential environmental effects of the proposed action and its alternatives based on any new information regarding potential impacts and issues that were not available at the time the Final EIS was prepared.

FOR FURTHER INFORMATION CONTACT: Minerals Management Service, Gulf of Mexico OCS Region, 1201 Elmwood Park Boulevard, New Orleans, Louisiana 70123-2394, Mr. Joseph Christopher, telephone (504) 736-2774.

SUPPLEMENTARY INFORMATION: In November 2002, MMS prepared a Final EIS, which addressed nine proposed Federal actions that offer for lease areas on the GOM Outer Continental Shelf (OCS) that may contain economically recoverable oil and gas resources. Federal regulations allow for several related or similar proposals to be analyzed in one EIS (40 CFR 1502.4). Since each proposed lease sale and its projected activities are very similar each year for each planning area, a single EIS was prepared for the nine Central Planning Area (CPA) and WPA lease sales scheduled in the Outer Continental Shelf Oil and Gas Leasing Program: 2002-2007 (the 5-Year Program). Under the 5-Year Program, five annual areawide lease sales are scheduled for the CPA (Lease Sales 185, 190, 194, 198, and 201) and five annual areawide lease sales are scheduled for the WPA (Lease Sales 184, 187, 192, 196, and 200). Lease Sale 184 was not addressed in the Final EIS; a separate EA was prepared for that proposal. The Final EIS addressed CPA Lease Sales 185, 190, 194, 198, and 201 scheduled for 2003, 2004, 2005, 2006, and 2007, respectively, and WPA Lease Sales 187, 192, 196, and 200 scheduled for 2003, 2004, 2005, and 2006, respectively. Although the Final EIS addresses nine proposed lease sales, at the completion of the EIS process, decisions were made only for proposed CPA Lease Sale 185 and proposed WPA Lease Sale 187. In the year prior to each subsequent proposed lease sale, an additional National Environmental Policy Act review will be conducted to address any new information relevant to that proposed action. After completion of the EA, for proposed Lease Sale 192, MMS will determine whether to prepare a Finding of No New Significant Impact (FONNSI) or a Supplemental EIS. The MMS will then prepare and send Consistency Determinations (CD's) to the affected States to determine whether the sale is consistent with their Federally-approved State coastal zone management programs. Finally, MMS will solicit comments via the Proposed Notice of Sale (PNOS) from the governors of affected States on the size, timing, and location of Lease Sale 192. The tentative schedule for the prelease decision process for the sale is as follows: EA FONNSI or Supplemental EIS decision, March 2004; CD's sent to affected States, March 2004; PNOS sent to governors of affected States, March 2004; Final Notice of Sale published in the Federal Register, July 2004; and Lease Sale 192, August 2004.

Public Comments: Federal, State, and local government agencies, and other interested parties are requested to send within 30 days of this Notice's publication comments regarding any new information or issues that should be addressed in the EA to the Regional Supervisor, Leasing and Environment (MS 5410), Gulf of Mexico OCS Region, Minerals Management Service, 1201 Elmwood Park Boulevard, New Orleans, Louisiana 70123-2394. Comments should be enclosed in an envelope labeled “Comments on WPA Lease Sale 192 EA.” You may also send comments to the MMS email address: environment@mms.gov. Comments, including the names and home addresses of respondents, will be made available for public review during regular business hours. You may request that your name, home address, or both be withheld from the public record by stating so at the beginning of your submission. The MMS will honor such a request to the extent allowable by law. All comments submitted by organizations and businesses or by individuals identifying themselves as representatives of organizations and businesses will be made available for inspection in their entirety. Anonymous comments will not be considered. To obtain single copies of the Final EIS, you may contact the Minerals Management Service, Gulf of Mexico OCS Region, Attention: Public Information Office (MS 5034), 1201 Elmwood Park Boulevard, Room 114, New Orleans, Louisiana 70123-2394 (1-800-200-GULF). You may also view the Final EIS or check the list of libraries that have copies of the Final EIS and their locations on the MMS Web site at http://www.gomr.mms.gov.

Dated: October 22, 2003.
Chris C. Oynes,
Regional Director, Gulf of Mexico OCS Region.

[FR Doc. 03-28932 Filed 11-18-03; 8:45 am]

BILLING CODE 4310-MR-P